NUCLEAR REGULATORY COMMISSION

Advisory Committee on Reactor Safeguards; Meeting of the Subcommittee on Reactor Fuels; Notice of Meeting

The ACRS Subcommittee on Reactor Fuels will hold a meeting on July 27-28, 2005, Room T-2B3, 11545 Rockville Pike, Rockville, Maryland.

The agenda for the subject meeting shall be as follows:

Wednesday, July 27, 2005—8:30 a.m. until the conclusion of business.

Thursday, July 28, 2005—8:30 a.m. until the conclusion of business.

The purpose of this meeting is to hear staff presentations about the results of NRC research into reactor fuel behavior during reactivity initiated accidents, and staff development of the revised LOCA criteria for reactor fuel. The staff will also present the results of studies of embrittlement correlations for high burnup fuel. The Subcommittee will hear presentations by and hold discussions with representatives of the NRC staff and other interested persons regarding these matters. The Subcommittee will gather information, analyze relevant issues and facts, and formulate proposed positions and actions, as appropriate, for deliberation by the full Committee.

Members of the public desiring to provide oral statements and/or written comments should notify the Designated Federal Official, Mr. Ralph Caruso (telephone 301-415-8065) five days prior to the meeting, if possible, so that appropriate arrangements can be made. Electronic recordings will be permitted.

Further information regarding this meeting can be obtained by contacting the Designated Federal Official between 7:30 a.m. and 4:30 p.m. (ET). Persons planning to attend this meeting are urged to contact the above named individual at least two working days prior to the meeting to be advised of any potential changes to the agenda.

Dated: June 23, 2005.
Michael R. Snodderly,
Acting Branch Chief, ACRS/ACNW.

[FR Doc. E5-3387 Filed 6-28-05; 8:45 am]

BILLING CODE 7590-01-P